DEPARTMENT OF JUSTICE

Antitrust Division

Notice Pursuant to the National Cooperative Research and Production Act of 1993—ODVA, Inc.

Notice is hereby given that, on November 15, 2010, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actul damages under specified circumstances. Specifically, Process Automation International Ltd., New Territories, Hong Kong-China; Secure Crossing Research and Development, Inc., Dearborn, MI; Vacon Plc, Vassa, Finland; Tappan Wire and Cable, Inc., Blauvelt, NY; Leuze Electronic GmbH & Co. KG, Owen, Germany; MK Precision Co., Ltd., Seoul, Republic of Korea; Monaghan Engineering, Inc., Dripping Springs, TX; Samsung Electronics Co., Ltd., Suwon City, Republic of Korea; Actel Corporation, Mountain View, CA; OES, Inc., London, Ontario, Canada; Hokuyo Automatic Co., Ltd., Osaka, Japan; Omron Scientific Technologies, Inc. (formerly Scientific Technologies, Inc.), Fremont, CA; Eilersen Electric A/S, Kokkedal, Denmark; and Han Yang System, Shihung-Shi, Republic of Korea, have been added as parties to this venture.

Also, Schweitzer Engineering Laboratories, Pullman, WA; Meidensha Corporation, Tokyo, Japan; Altera Corporation, San Jose, CA; SICK Stegmann GmbH, Donaueschingen, Germany; Sick Stegnann Inc., Dayton, OH; RocKontrol Industry Co., Ltd., Taiyuan, People's Republic of China; GE Fanuc Automation North America, Inc., Charlottesville, VA; Unipulse Corporation, Tokyo, Japan; Matric Limited Inc., Seneca, PA; and Wittenstein AG, Igersheim, Germany, have withdrawn as parties to this venture.

In addition, Invensys Process Systems has changed its name to Invensys Operations Management, Piano, TX.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on June 30, 2010. A notice was published in the Federal Register pursuant to Section 6(b) of the Act on August 2, 2010 (75 FR 45155).

Patricia A. Brink,
Director of Civil Enforcement, Antitrust Division.

[FR Doc. 2010-31593 Filed 12-16-10; 8:45 am]

BILLING CODE 4410-11-M